DEPARTMENT OF COMMERCE

Bureau of Industry and Security

License Exception TMP: Special Requirements

ACTION: Proposed Information Collection: Comment Request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 3, 2003.

ADDRESSES: Direct all written comments to Diana Hynek, DOC Paperwork Clearance Officer, (202) 482-0266, Department of Commerce, Room 6625, 14th and Constitution Avenue, NW., Washington, DC 20230.

FOR FURTHER INFORMATION CONTACT: Requests for additional information or copies of the information collection instrument(s) and instructions should be directed to Ms. Marna Dove, BIS ICB Liaison, (202) 482-5211, Department of Commerce, Room 6622, 14th & Constitution Avenue, NW., Washington, DC 20230.

SUPPLEMENTARY INFORMATION:

I. Abstract

License Exception TMP of the Export Administration Regulations (15 CFR 740.8) authorizes temporary (not more than one year) exports and reexports of some commodities and software in some situations in which a license otherwise would be required. Information not covered by any other approved collection is obtained from the public in two situations covered by this collection. The first situation is when the exporter or reexporter wishes to keep the commodities or software abroad for more than one year. In such instances, the exporter or reexporter must submit an application for an extension (up to six months) or to convert the transaction to a permanent export or reexport. The second situation occurs when members of the news media wish to use TMP as authorization to take items that otherwise would require a license to destinations in Country Groups D:1 or E:2 or Sudan (see 15 CFR part 740, Supp. No. 1 for the constituents of each country group). In this situation, the exporter or reexporter must submit a copy of the packing list or similar information to BIS before the export or reexport.

II. Method of Collection

The information will be collected in written form.

III. Data

OMB Number: 0694-0029.

Form Number: N/A.

Type of Review: Regular Submission.

Affected Public: Businesses and other for-profit institutions, small businesses or organizations.

Estimated Number of Respondents: 3.

Estimated Time Per Response: 20 minutes.

Estimated Total Annual Burden Hours: 1 hour.

Estimated Total Annual Cost: $15 for respondents—no equipment or other materials will need to be purchased to comply with the requirement.

IV. Request for Comments

Comments are invited on: (a) Whether the proposed collection of information is necessary for the proper performance of the function of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 26, 2003.
Madeleine Clayton,
Management Analyst, Office of the Chief Information Officer.

[FR Doc. 03-22242 Filed 8-29-03; 8:45 am]

BILLING CODE 3510-33-P